Executive Order 13390 of November 1, 2005

Establishment of a Coordinator of Federal Support for the Recovery and Rebuilding of the Gulf Coast Region

By the authority vested in me as President by the Constitution and the laws of the United States of America, including the Homeland Security Act of 2002 (6 U.S.C. 101 et seq.) and the Robert T. Stafford Disaster Relief and Emergency Assistance Act, as amended (42 U.S.C. 5121-5206) (the “Stafford Act”), and to further strengthen Federal support for the recovery and rebuilding of the Gulf Coast region affected by Hurricane Katrina and Hurricane Rita, it is hereby ordered as follows:

Section 1. Policy. It is the policy of the United States to provide effective, integrated, and fiscally responsible support from across the Federal Government to support State, local, and tribal governments, the private sector, and faith-based and other community humanitarian relief organizations in the recovery and rebuilding of the Gulf Coast region affected by Hurricane Katrina and Hurricane Rita (the “Federal Response”).

Sec. 2. Establishment of Coordinator. The Secretary of Homeland Security (Secretary) shall establish in the Department of Homeland Security the position of Coordinator of Federal Support for the Recovery and Rebuilding of the Gulf Coast Region (Coordinator). The Coordinator shall be selected by the President and shall be appointed by and report directly to the Secretary. The Secretary shall make available to the Coordinator such personnel, funds, and other resources as may be appropriate to enable the Coordinator to carry out the Coordinator's mission.

Sec. 3. Mission and Functions of Coordinator. (a) The Coordinator's mission shall be to work with executive departments and agencies to ensure the proper implementation of the policy set forth in section 1 of this order by coordinating the Federal Response. The Coordinator shall be the principal point of contact for the President and his senior advisors with respect to the Federal Response.

(b) Working with the input of all appropriate heads of executive departments and agencies, the Coordinator shall lead the process to develop the principles governing and define the goals of the Federal Response. The Coordinator shall communicate those principles and goals to all Federal officials involved in the Federal Response.

(c) Working with the input of all appropriate heads of executive departments and agencies, the Coordinator shall lead the development and monitor the implementation of the specific policies and programs that constitute the Federal Response, and ensure that those polices and programs are consistent with the principles and goals of the Federal Response.

(d) The Coordinator shall serve as the primary point of contact within the executive branch with the Congress, State and local governments, the private sector, and community leaders regarding the Federal Response. Working with the input of all appropriate heads of executive departments and agencies, the Coordinator shall be responsible for managing information flow, requests for actions, and discussions regarding the Federal Response with the Congress, State and local governments, the private sector, and community leaders.

Sec. 4. Duties of Heads of Departments and Agencies. Heads of executive departments and agencies shall respond promptly to any request by the Coordinator, and shall, consistent with applicable law, provide such information as the Coordinator deems necessary to carry out the Coordinator's mission, and shall otherwise cooperate with the Coordinator to the greatest extent practicable to facilitate the performance of the Coordinator's mission.

Sec. 5. General Provisions. (a) Nothing in this order shall be construed to impair or otherwise affect:

(i) authority granted by law to an agency or the head thereof;

(ii) the functions of the Director of the Office of Management and Budget relating to budget, administrative, or legislative proposals; or

(iii) the chain of command over the Armed Forces provided in section 162(b) of title 10, United States Code.

(b) This order shall be implemented consistent with applicable law, subject to the availability of appropriations, and shall terminate 3 years from the date of this order.

(c) As used in this order, the term “agency” has the meaning set forth for the term “executive agency” in section 105 of title 5, United States Code, excluding the Government Accountability Office.

(d) This order is intended only to improve the internal management of the executive branch and is not intended to, and does not, create any right or benefit, substantive or procedural, enforceable at law or in equity by a party against the United States, its departments, agencies, entities, officers, employees or agents, or any other person.

B

THE WHITE HOUSE,

November 1, 2005.

[FR Doc. 05-22133

Filed 11-3-05; 8:45 am]

Billing code 3195-01-P